DEPARTMENT OF TRANSPORTATION

National Highway Traffic Safety Administration

[U.S. DOT Docket No. NHTSA-2010-0105]

Reports, Forms, and Record Keeping Requirements; Agency Information Collection Activity Under OMB Review

AGENCY: National Highway Traffic Safety Administration (NHTSA), DOT.

ACTION: Notice

.

SUMMARY: In compliance with the Paperwork Reduction Act of 1995 (44 U.S.C. 3501 et seq.), this notice announces that the Information Collection Request (ICR) abstracted below is being forwarded to the Office of Management and Budget (OMB) for review and comment. The ICR describes the nature of the information collection and the expected burden. The Federal Register Notice with a 60-day comment period was published on September 13, 2010 (75 FR 55627-55628).

DATES: Comments must be submitted on or before June 13, 2011.

ADDRESS: Send comments, within 30 days, to the Office of Information and Regulatory Affairs, Office of Management and Budget, 725-17th Street, NW., Washington, DC 20503, attention NHTSA Desk Officer.

FOR FURTHER INFORMATION CONTACT: Randolph Atkins, Ph.D., Office of Behavioral Safety Research, National Highway Traffic Safety Administration, NTI-131, Room W46-500, 1200 New Jersey Ave, SE., Washington, DC 20590. Dr. Atkins' phone number is 202-366-5597 and his e-mail address is randolph.atkins@dot.gov.

SUPPLEMENTARY INFORMATION: Title: System Analysis of Automated Speed Enforcement (ASE) Implementation.

Type of Request: New information collection requirement.

Abstract: A great many enforcement strategies are in use to combat speeding today. One important approach increasingly being used is Automated Speed Enforcement (ASE). A number of studies have shown the use of speed cameras for ASE to be effective in reducing traffic speeds. However, despite the effectiveness of speed cameras programs for ASE, it is often difficult to establish public acceptance for these programs and put them into place. The objectives of this study are to (1) Determine how the existing speed camera programs in the United States were developed and implemented; (2) Examine other variables that have affected these speed camera programs; and (3) Determine how all of these variables have affected the success of these programs. This information will be used to revise existing guidelines for ASE programs, help existing ASE programs improve their programs and provide new information on this countermeasure to assist other communities in establishing well-designed speed management programs, including ASE.

This study will conduct a census survey of existing ASE programs in the United States, as well as some recently discontinued ASE programs, and gather information from each site to address the objectives described above. Key personnel in the existing programs will be surveyed via mailed questionnaire with possible follow-ups by e-mail, phone or in person. This survey is expected to provide data relevant to ASE development and delivery that may affect the level of public acceptance for speed camera programs, as well as their success. The variables to be addressed include specific target sites for the ASE (school zones, work zones, etc.), program funding and revenue flow (who pays for it and how, who profits from revenue, how it is promoted as a revenue generator or a safety measure), nature of citations issued (cite vehicle or cite driver), penalties for violations (level of fines, points on license, etc.), presence of other automated enforcement (red light cameras), level of traditional speed law enforcement, existence and results of program evaluations, media reports and level of media exposure, level of public acceptance, and the degree to which programs were set up and implemented according to NHTSA guidelines. This information is focused on achieving the greatest benefit in decreasing crashes and resulting injuries and fatalities, and providing informational support to States, localities, and law enforcement agencies that will aid them in their efforts to reduce traffic crashes. Given the widespread occurrence of speeding and the high toll in injuries and lives lost in speed-related crashes, as well as the high economic costs of speed-related crashes, this is a safety issue that demands attention.

Affected Public: This survey will target law enforcement agencies in the United States with ASE programs as well as agencies that recently discontinued ASE programs. A few key personnel from each of the agencies will be contacted to complete the survey on their ASE programs. This survey will include a mailed questionnaire and possible e-mail, telephone or in-person follow-up discussions, as needed, for the information collection. Participation will be voluntary. This is a census collection of information on existing ASE programs and some recently discontinued ASE programs. After continued research into the number of current and discontinued ASE programs, the original estimate of 80 jurisdictions has been updated to include a total census of 106 agencies to be contacted for participation in this survey.

Estimated Total Annual Burden: The total estimated annual burden is approximately 848 hours for the survey and follow-up contacts for the 106 jurisdictions. We estimate approximately 8 hours per jurisdiction responding to our request for information (106 agencies × 8 hours each = 848 hours total). These 8 hours will be expended on internal agency discussion of the survey, gathering information requested in the survey (data and past reports), completing the questionnaire, and speaking with the researchers should follow-up contacts be required. Personnel to be contacted in each jurisdiction include the Chief of Police, a traffic unit/ASE unit commander, and a data person at each agency. The respondents would not incur any reporting cost from the information collection beyond the time to respond to the information request and they would not incur any record keeping burden or record keeping cost from the information collection.

Comments are invited on the following:

(i) Whether the proposed collection of information is necessary for the proper performance of the functions of the agency, including whether the information will have practical utility;

(ii) The accuracy of the agency's estimate of the burden of the proposed information collection;

(iii) Ways to enhance the quality, utility, and clarity of the information to be collected; and

(iv) Ways to minimize the burden of the collection of information on respondents, including the use of automated collection techniques or other forms of information technology.

A comment to OMB is most effective if OMB receives it within 30 days of publication.

Authority: 44 U.S.C. 3506(c)(2)(A).

Jeff Michael,
Associate Administrator, Research and Program Development.

[FR Doc. 2011-11784 Filed 5-12-11; 8:45 am]

BILLING CODE 4910-59-P